DEPARTMENT OF THE INTERIOR

National Park Service

Fire Management Plan, Environmental Impact Statement, Bandelier National Monument, NM

AGENCY: National Park Service, Department of the Interior.

ACTION: Notice of Intent to prepare an environmental assessment for the Fire Management Plan at Bandelier National Monument.

SUMMARY: In a Notice of Intent published August 6, 2003 (68 FR 46661), the National Park Service (NPS) announced its intent to prepare an EIS for the Fire Management Plan at Bandelier National Monument (Bandelier). The NPS has since determined that an environmental assessment (EA), rather than an EIS, is the appropriate environmental documentation for the Fire Management Plan.

SUPPLEMENTARY INFORMATION: The NPS had begun working on the EIS following publication of the Notice of Intent. However, internal discussions and meetings, and comments from public scoping sessions held in the New Mexico cities of Santa Fe, Los Alamos, and Albuquerque in August of 2003 resulted in substantial changes to the fire management plan alternatives proposed under the EIS. Based on these changes, the NPS determined that the appropriate National Environmental Policy Act documentation for the update and review of Bandelier's Fire Management Plan is an EA.

Through the EA process, Bandelier will revise and update the Fire Management Plan to include the following goals: (1) Provide the means for staff and the public to preserve, protect, understand, and enjoy the natural and cultural resources of Bandelier National Monument through an integrated program where management activities support naturally functioning ecosystems consistent with cultural resource preservation needs. (2) Educate, inform, consult, collaborate, and maintain cooperative fire planning with other land agencies, landowners, and local communities. (3) Achieve ecologically sustainable vegetative conditions across broad vegetation communities by restoring a natural range of variability and bio-diversity. (4) Identify and mitigate hazards related to the Wildland-Urban Interface (WUI) through coordination and collaboration with neighboring agencies and landowners over time and across boundaries.

The following fire management objectives support these goals: (1) Protect life, property, and Bandelier's natural and cultural resources from the effects of unwanted fire. (2) Prevent or mitigate impacts due to fire suppression activities. (3) Institute and maintain a comprehensive Fire Information and Education Program. (4) Restore and maintain fire-dependent ecosystems with the appropriate use of fire. (5) Use prescribed fire to meet fire and resource management goals and objectives. (6) Allow natural fires to function in fire dependent ecosystems. The new Fire Management Plan will emphasize the importance of mitigating measures to reduce effects in the Wildland/Urban Interface and maintaining a comprehensive Fire Information and Education Program.

FOR FURTHER INFORMATION CONTACT: Jim Whittington, Fire Information Officer, HCR 1, Box 1, Suite 15, Los Alamos, NM 87544. Telephone (505) 672-3861 x512.

Dated: August 20, 2004.
Stephen P. Martin,
Director, Intermountain Region.

[FR Doc. 04-23743 Filed 10-21-04; 8:45 am]

BILLING CODE 4312-EW-P